SECURITIES AND EXCHANGE COMMISSION

[File No. 500-1]

In the Matter of Coastal Pacific Mining Corp. and Petaquilla Minerals Ltd.; Order of Suspension of Trading

June 23, 2016.

It appears to the Securities and Exchange Commission (“Commission”) that there is a lack of current and accurate information concerning the securities of Coastal Pacific Mining Corp. (“CPMCF” ¹) (CIK No. 1410181), an Alberta corporation located in Calgary, Alberta, Canada with a class of securities registered with the Commission pursuant to Securities Exchange Act of 1934 (“Exchange Act”) Section 12(g) because it is delinquent in its periodic filings with the Commission, having not filed any periodic reports since it filed a Form 20-F for the period ended April 30, 2012. On March 19, 2015, the Commission's Division of Corporation Finance (“Corporation Finance”) sent a delinquency letter to CPMCF requesting compliance with its periodic filing requirements but CPMCF did not receive the delinquency letter due to its failure to maintain a valid address on file with the Commission as required by Commission rules (Rule 301 of Regulation S-T, 17 CFR 232.301 and Section 5.4 of EDGAR Filer Manual). As of June 16, 2016, the common stock of CPMCF was quoted on OTC Link operated by OTC Markets Group Inc. (formerly “Pink Sheets”) (“OTC Link”), had six market makers, and was eligible for the “piggyback” exception of Exchange Act Rule 15c2-11(f)(3).

¹ The short form of each issuer's name is also its stock symbol.

It appears to the Commission that there is a lack of current and accurate information concerning the securities of Petaquilla Minerals Ltd. (“PTQMF”) (CIK No. 947121), a British Columbia corporation located in Vancouver, British Columbia, Canada with a class of securities registered with the Commission pursuant to Exchange Act Section 12(g) because it is delinquent in its periodic filings with the Commission, having not filed any periodic reports since it filed a Form 20-F for the period ended June 30, 2013. On September 30, 2015, Corporation Finance sent a delinquency letter to PTQMF requesting compliance with its periodic filing requirements but PTQMF did not receive the delinquency letter due to its failure to maintain a valid address on file with the Commission as required by Commission rules (Rule 301 of Regulation S-T, 17 CFR 232.301 and Section 5.4 of EDGAR Filer Manual). As of June 16, 2016, the common shares of PTQMF were quoted on OTC Link, had six market makers, and were eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 23, 2016, through 11:59 p.m. EDT on July 7, 2016.

By the Commission.
Jill M. Peterson,
Assistant Secretary.

[FR Doc. 2016-15255 Filed 6-23-16; 4:15 pm]

BILLING CODE 8011-01-P